DEPARTMENT OF COMMERCE

National Oceanic and Atmospheric Administration

50 CFR Part 660

[Docket No. 180207141-8999-02]

RIN 0648-BH74

Magnuson-Stevens Act Provisions; Fisheries Off West Coast States; Pacific Coast Groundfish Fishery; Groundfish Bottom Trawl and Midwater Trawl Gear in the Trawl Rationalization Program

AGENCY: National Marine Fisheries Service (NMFS), National Oceanic and Atmospheric Administration (NOAA), Commerce.

ACTION: Final rule.

SUMMARY: This rule revises Federal regulations that currently restrict the use and configuration of bottom and midwater trawl gear for vessels fishing under the Pacific Coast Groundfish Fishery's Trawl Rationalization Program. The revisions implemented through this rule were developed by the Pacific Fishery Management Council to address restrictions that are no longer necessary because of changes to the fishery including implementation of the Trawl Rationalization Program in 2011 and improved status of a number of overfished rockfish stocks. This action will likely increase flexibility in how vessels can use and configure gear to increase access to target stocks and efficiency of fishing practices, while still limiting the catch of target and non-target discards to meet the conservation objectives of the Trawl Rationalization Program.

DATES: This final rule is effective January 1, 2019.

ADDRESSES: Electronic copies of supporting documents referenced in this final rule, including the environmental assessment (EA) and regulatory impact review (RIR)/regulatory flexibility analysis (RFA), are available from www.regulations.gov or from the NMFS West Coast Region Groundfish Fisheries website at http://www.westcoast.fisheries.noaa.gov/fisheries/groundfish/index.html.

FOR FURTHER INFORMATION CONTACT: Karen Palmigiano, Fishery Management Specialist, 206-526-4491, or karen.palmigiano@noaa.gov.

SUPPLEMENTARY INFORMATION:

Table of Contents

I. Background

II. Regulations for Net Configurations

III. Requirement To Use Selective Flatfish Trawl Shoreward of the RCA and North of 40°10′ North Latitude

IV. Regulations for Vessel Operations

V. Comments and Responses

VI. Changes From the Proposed Rule

VII. Classification

I. Background

Prior to 2011 the Pacific Coast Groundfish fishery was primarily managed with trip and landing limits and area closures, and monitoring was limited (i.e., less than 25 percent of groundfish bottom and midwater trawl trip landings were subject to at-sea observer coverage). During that time NMFS implemented trawl gear restrictions to both reduce groundfish and non-groundfish bycatch and discards, as well as limit access to overfished rockfish habitat. Restrictions included: (1) Minimum mesh size requirements; (2) requirements for chafing gear and codends; (3) the trawl Rockfish Conservation Areas (RCA) in which the use of groundfish bottom trawl gear between certain fathom lines is prohibited, as defined in regulation at §§ 660.71 through 660.74; and, (4) a requirement that vessels use selective flatfish trawl, a type of small footrope trawl gear, shoreward of the trawl RCA and north of 40°10′ North (N) latitude.

In 2011, NMFS implemented Amendments 20 and 21 to the Pacific Coast Groundfish Fishery Management Plan (PCGFMP), which established the Trawl Rationalization Program. The Trawl Rationalization Program, a type of catch share program, replaced trip and landing limits with fixed allocations for limited entry trawl participants through an individual fishing quota (IFQ) management system. To allow managers to accurately account for catch against IFQ the program increased at-sea and shoreside monitoring to 100 percent of trips and landings for groundfish bottom and midwater trawl vessels. This management system increased individual vessel accountability and successfully reduced bycatch of target and non-target rockfish in the trawl fishery. Since implementation of the Trawl Rationalization Program, five of the seven previously overfished rockfish species are now rebuilt.

Building on the successes of the Trawl Rationalization Program at reducing discards, NMFS and the Pacific Fishery Management Council (Council) worked with industry members to identify regulations that limit the use and configuration of groundfish bottom and midwater trawl gears, and may no longer be necessary because the Trawl Rationalization Program effectively limits target and non-target species bycatch. Additional discussion of the background and rationale for the Council's development of changes to bottom and midwater trawl gear configuration is included in the proposed rule (83 FR 45396; September 7, 2018) and is not repeated here. Detailed information, including the supporting documentation the Council considered while developing these recommendations, is available at the Council's website, www.pcouncil.org.

The discussion in this final rule and in the EA/RIR/RFA (see ADDRESSES) groups several related measures to reduce redundancy and to present the collective impacts of similar regulations. This final rule:

• Adjusts a suite of restrictions related to how nets are configured, including eliminating minimum mesh size restrictions, changing the definition of mesh size, removing chafing gear placement restrictions, and removing restrictions on using double-walled codends from groundfish bottom and midwater trawl vessels fishing under the Trawl Rationalization Program;

• Removes the requirement to use selective flatfish trawl gear north of 40°10′ N lat. and shoreward of the trawl RCA;

• Adjusts a number of provisions related to vessel operations on a single fishing trip, including allowing vessels that fish in the Shorebased IFQ Program under the Trawl Rationalization Program to carry and fish groundfish bottom and midwater trawl gears on the same trip, fish across IFQ management lines, and bring a new haul on deck before the catch from a previous haul is stowed.

II. Regulations for Net Configurations

This section discusses several regulatory changes that remove some minimum mesh size restrictions, revise the definition of mesh size, remove chafing gear placement restrictions, and remove the prohibition on using double-walled codends for groundfish bottom and midwater trawl vessels fishing under the Trawl Rationalization Program. These measures all relate to net configuration and all affect the mesh size for trawl nets. A description of the existing regulations for net configurations, as well as a summary of the potential impacts of these combined measures, is included in the proposed rule and is not repeated here.

This final rule removes the minimum mesh size requirement of 4.5 inches (11.4 cm) for groundfish bottom trawl nets and revises the minimum mesh size requirements for midwater trawl gear. Midwater trawl gear nets are no longer required to have a minimum mesh size of 3.0 inches (7.6 cm). However, the Council did not recommend revising the restriction on the minimum mesh size restriction for the first 20 feet (6.51 m) behind the footrope or head-rope for midwater trawl gears because it is essential to the definition of midwater trawl gear. As such, nets must still be configured so that the first 20 feet (6.51 m) immediately behind the footrope or head-rope is constructed with bare ropes or mesh with a minimum size of 16 inches (40.64 cm).

This final rule redefines minimum mesh size as the smallest distance allowed from opposing knots or corners. In addition, this final rule revises the definition for measuring minimum mesh size to include knotless nets, as well as redefining the approach for measuring mesh size as the opening between opposing corners. These changes will allow NMFS Office of Law Enforcement (OLE) to enforce current mesh size requirements for vessels using midwater trawl nets, which must meet minimum mesh size requirements for the first 20 feet (6.51 m) behind the footrope or head-rope.

Finally, this final rule eliminates the prohibition on double-walled codends and restrictions on the use of chafing gear. Removing these restrictions will allow vessel operators flexibility in how they use chafing gear to protect nets and codends, fish relative to the seafloor, and strategically use mesh sizes to enhance fishing operations (i.e., herding smaller fish through the net). NMFS anticipates that under these regulations vessel operators will use chafing gear strategically to provide protection in areas where the net can be susceptible to wear. This will allow vessels to extend the life of their nets and ultimately reduce operational costs.

Eliminating restrictions on groundfish bottom and midwater trawl net configuration allows vessels to experiment with different mesh sizes, chafing gear placement, and use of double-walled codends. The new regulations will allow vessels to reduce the mesh size of their nets and increase net protections to better target semi-pelagic rockfish species or longspine thornyheads.

III. Requirement To Use Selective Flatfish Trawl Shoreward of the RCA and North of 40°10′ North Latitude

This final rule adjusts groundfish vessel requirements for using selective flatfish trawl gear. A description of the existing regulations for selective flatfish trawl, as well as a summary of the potential impacts of this measure, is included in the proposed rule and is not repeated here.

This final rule revises the definition of selective flatfish trawl, a type of small footrope trawl gear, to allow for a two- or four-seamed net with no more than four riblines, while retaining all other existing restrictions related to configuration of this gear including: The breastline may not be longer than 3 feet (0.92 m); there may be no floats along the center third of the headrope or attached to the top panel, except on the riblines; the footrope must be less than 105 feet (32.26 m); the headrope must be no less than 30 percent longer than the footrope; and the headrope is issued along the length of the headrope from the outside edge to the opposite outside edge.

Revising the definition of selective flatfish trawl to allow for use of a four-seam net will provide for better flow and improved selectivity compared to a two-seam net. A four-seam net has more open meshes for smaller fish to escape. In addition, studies have demonstrated that improved flow within nets improves fishing efficiency, which may increase catch of marketable target groundfish (e.g., widow rockfish, yellowtail rockfish, and Pacific cod), and reduce bycatch of small or unmarketable groundfish (e.g., undersized redstripe rockfish, rosethorn rockfish, sand dabs).

The final rule also eliminates the requirement that vessels use selective flatfish trawl gear shoreward of the trawl RCA north of 42° N lat. Instead, trawl vessels are allowed to use any type of small footrope trawl gear, including selective flatfish trawl gear, shoreward of the trawl RCA north of 42° N lat. Large footrope trawl gear will still be prohibited shoreward of the trawl RCA. This final rule does not make any changes to the requirement to use selective flatfish trawl gear between 40°10′ N lat. and 42° N lat. Vessels that choose to fish groundfish bottom trawl gear in this area are required to use selective flatfish trawl gear. Fishing with small footrope trawl gear, other than selective flatfish trawl gear, is prohibited between 40°10′ N lat. and 42° N lat.

As described in the proposed rule for this action, the Council recommended that NMFS remove the requirement to use selective flatfish trawl gear north of 40°10′ N lat. and replace it with a requirement to use small footrope trawl gear. However, NMFS determined that the Council's recommended changes to the selective flatfish trawl gear requirement shoreward of the trawl RCA between 42° N lat. and 40°10′ N lat. are out of compliance with the terms and conditions of the December 2017 Salmon Incidental Take Statement. Term and Condition 4b requires that “prior to allowing additional non-whiting trawling south 42° N lat., NMFS will implement one or more exempted fishing permits (EFPs) designed to collect information about Chinook and coho bycatch levels and stock composition from fishing in those areas or at those times for a minimum of three years.” Because the area shoreward of the trawl RCA between 42° N lat. and 40°10′ N lat. was not part of the exemption to the selective flatfish trawl gear requirement in the 2017 and 2018 EFPs, which was the Council's recommendation, NMFS cannot make changes to restrictions in this area that could result in additional non-whiting trawling effort. NMFS notified the Council of this preliminary determination at its September 2018 meeting in Seattle, Washington.

NMFS does support the continued use of EFPs to obtain data on potential impacts of changing the selective flatfish trawl gear requirement between 42° N lat. and 40°10′ N lat. This information would help inform any future regulatory changes the Council recommends for this area and gear type.

IV. Regulations for Vessel Operations

This section discusses the three regulatory changes that relate to vessel operations on a single fishing trip including allowing vessels that fish in the Shorebased IFQ Program under the Trawl Rationalization Program to carry and fish groundfish bottom and midwater trawl gears on the same trip, fish across IFQ management lines, and bring a new haul on deck before the catch from a previous haul is stowed. A description of the existing regulations for vessel operators, as well as a summary of the potential impacts of these combined measures, is included in the proposed rule and is not repeated here.

The groundfish regulations define four trawl gear types (large footrope trawl, small footrope trawl, selective flatfish trawl, and midwater trawl), as well as where and when vessels may carry those trawl gear types. Under the revised regulations in this final rule, vessels fishing north of 40°10′ N lat. may not have both groundfish trawl gear and non-groundfish trawl gear on board simultaneously, but vessels fishing in the Shorebased IFQ Program will be allowed to carry multiple trawl gear types (groundfish bottom or midwater trawl gear) on board simultaneously. A vessel may have more than one type of small footrope bottom trawl gear on board (selective flatfish trawl or small footrope trawl gear) either simultaneously or successively during a trip limit period, with one exception. Only a selective flatfish trawl is allowed onboard when fishing shoreward of the trawl RCA between 42° N lat. and 40°10′ N lat. Finally, a vessel may have more than one type of midwater groundfish trawl gear on board, either simultaneously or successively, during a cumulative trip limit period. South of 40°10′ N lat., a vessel may not have both groundfish trawl gear and non-groundfish trawl gear on board simultaneously; however, they may have both bottom trawl gear and midwater trawl gear on board simultaneously or any type of small footrope trawl gear, including selective flatfish trawl gear, simultaneously or successively.

This final rule eliminates the prohibition on using multiple types of groundfish trawl gears (bottom and midwater trawl gear) on the same trip for vessels fishing in the Trawl Rationalization Program's IFQ Program. Allowing the use of multiple trawl gears during a single trip reduces the complexity in the regulations and will improve economic efficiency and safety at sea by reducing the number of trips and days at sea.

Vessels fishing with multiple types of groundfish trawl gear are required to keep and land all catch separately by gear type, and catch must be reported on electronic fish tickets by gear type (i.e., midwater or bottom trawl). Vessels are not required to keep catch separate by haul. This rule does not adjust the current provision that requires vessels to stow any gear not authorized for use in the area when transiting through a groundfish conservation area. For species managed with trip limits, crossover provisions, or gear-specific trip limits, all current regulations would remain in effect.

This final rule also modifies recordkeeping and reporting requirements for vessels fishing in the Shorebased IFQ Program that choose to use more than one type of groundfish trawl gear on the same trip. These vessels are required to make a new gear declaration to indicate that they have chosen to fish with a new gear type (i.e., groundfish bottom trawl vs. midwater trawl). Previously, the regulations only allowed vessels to declare one type of trawl gear at a time when fishing in the Trawl Rationalization Program, and vessel operators were required to make the declaration for each trip prior to leaving port. The final rule revises the regulations so that vessel operators in the Shorebased IFQ Program that choose to use multiple groundfish trawl gears on the same trip may adjust their gear declarations from sea and do not need to return to port to do so. Vessel operators are required to make a new declaration any time they switch to a gear other than the gear that was previously declared. This allows for the continued monitoring and enforcement of gear-specific closed areas. Allowing vessels the flexibility to use and carry multiple trawl gears onboard the vessel will reduce costs to operators by reducing daily fuel and observer coverage costs.

This final rule eliminates both the existing prohibition on bringing a haul on board before the previous haul has been stowed and the requirement to stow all catch before catch from a new haul is brought on board. Vessels may now bring a new haul on board before the previous haul has been stowed and will not be required to stow all catch before the catch from a new haul is brought on board. Vessels are still required to keep catch from separate hauls until the observer has completed all haul-specific sampling protocols and has allowed the hauls to be mixed. Vessels will also still be required to allow observers and catch monitors to carry out all required duties without interference to ensure continued accurate monitoring and reporting of catch. This ensures availability of quality data for catch at-sea and landings which are used to manage the fishery in season and to assess the stocks and develop catch limits and harvest guidelines. Vessels fishing with electronic monitoring are required to keep catch from different hauls separate on deck until fully documented according to protocols established in the specific vessel's monitoring plan. All vessels are required to land any catch by gear type if it was caught using different gears separated by gear type.

This final rule also eliminates the prohibition on fishing in multiple IFQ management areas on the same trip or tow, for vessels fishing in the Shorebased IFQ Program. These vessels are allowed to fish in multiple IFQ management areas on the same trip and the same haul, and catch does not need to be sorted by area. Vessel operators will be responsible for recording the number of hauls that took place in which IFQ management area. Catch will then be assigned to an area and quota pounds will be deducted from vessel accounts based on the proportion of hauls in a given management area. For example, if six hauls were taken in one IFQ management area, and two hauls were taken in another management area, the total catch would be apportioned to management areas by a 6 to 2 ratio. For any hauls that took place across management lines, catch would be apportioned 50 percent to each area. Therefore, if six hauls were taken in one management area, two hauls taken in another management area, and one haul taken across management areas, the total catch would be apportioned to management areas by a 6.5 to 2.5 ratio.

Vessel operators are expected to use the flexibility to create an efficient fishing strategy that best limits bycatch of non-target and protected species while still maximizing catch of their target species. Vessels would maximize attainment of IFQ by carrying and fishing with both midwater and groundfish bottom trawl gear on the same trip. Eliminating regulations that manage vessel operations may have some potential negative impacts to processors, observers, and managers, but these are likely to be limited and may even decrease over time as operations adjust to the changes.

V. Comments and Responses

NMFS received seven comment letters from private citizens during the comment period for the proposed rule. All of the comments raised similar issues regarding the potential for these gear changes to negatively impact previously overfished rockfish stocks and their habitat, and the potential for the changes to increase salmon bycatch. Only comments relevant to measures considered in the proposed rule are summarized and addressed below. Comments related to other fishery actions, general fishery management, or unrelated to fisheries are not addressed here. All public comment letters can be viewed, along with the proposed and final rules for this action, at www.regulations.gov.

Comment 1: Please withhold changes to gear restrictions until salmon stocks have had a chance to rebuild. These gear changes will likely increase bycatch of Chinook salmon.

Response: While NMFS shares the commenter's concerns over any action that could increase bycatch of Chinook salmon, the analysis for this action does not support the conclusion that removing these restrictions and requirements would result in additional bycatch beyond what already occurs in this fishery. Over the past two years NMFS has permitted more than 40 vessels annually to test whether removing these requirements or prohibitions would result in additional bycatch of Chinook and coho salmon. These vessels have completed more than 200 EFP trips. Based on the analysis of this EFP information, changes that have occurred within the fishery over the past several years, and the analysis in the December 2017 biological opinion, NMFS has determined that changes to mesh size, removing restrictions on codends and chafing gear, and removing restrictions on vessel operations is unlikely to result in additional impacts to Chinook salmon. With regards to removal of the selective flatfish trawl gear requirement, impacts to Chinook salmon are unlikely to increase from this action in the area north of 42° N lat. (the southern boundary of the 2017 and 2018 Trawl Gear EFPs). However, impacts to Chinook salmon resulting this action are less certain in the area between 42° N lat. and 40°10′ N lat.

NMFS discussed uncertainty around potential impacts to Chinook salmon in the area between 42° N lat. and 40°10′ N lat. in the proposed rule, particularly when considering the removal of the requirement to use selective flatfish trawl gear, because this area was not included in the 2017 or 2018 EFPs. Therefore, as mentioned above in Section III, NMFS is only removing the prohibition on using any small footrope trawl gear besides selective flatfish trawl gear for the area north of 42° N lat. No changes to regulations requiring the use of selective flatfish trawl gear will be implemented for the area between 42° N lat. and 40°10′ N lat., where impacts to salmon are less certain.

Additionally, unlike in previous years, NMFS is proposing through the proposed rule for the 2019-2020 harvest specifications and management measures (83 FR 47416, September 19, 2018), to establish hard caps for Chinook salmon established in the 2017 Salmon Biological Opinion. If implemented, NMFS will have a mechanism available in regulation that may be used to close the non-whiting and/or whiting fisheries if the bycatch of Chinook salmon exceeds or is projected to exceed the thresholds for those fisheries. Finally, NMFS continues to work with the Council to develop any management measures needed to address any unexpected high bycatch of Chinook or coho salmon in the groundfish fisheries.

Comment 2: The proposed regulations do not acknowledge the potential for rockfish habitats to be destroyed with little chance of rehabilitation.

Response: In developing the EA for this action NMFS considered potential impacts to the physical environment, which includes important habitats for rockfish species, and determined that impacts to the physical environment from this action are likely to be negligible to low for the several reasons. First, the regulatory revisions do not change any areas that are currently closed to fishing, such as essential fish habitat conservation areas (EFHCAs) designed to protect sensitive habitat from bottom contact gear. NMFS expects there may be increased effort shoreward of the trawl RCA and north of 42° N latitude by vessels fishing without selective flatfish trawl gear. However, NMFS expects this effort would likely only occur with groundfish bottom trawl over soft-bottom habitat or with pelagic trawls fished off the ocean floor and in the water column away from any high relief structures that could damage fishing nets. Finally, the regulatory revisions do not change small footrope requirements for groundfish bottom trawl shoreward of the RCA. This small footrope requirement provides a strong disincentive for harvesters to fish with bottom trawl over high-relief habitat. Therefore, based on this analysis, NMFS determined that the revised regulations will not result in additional impacts to the physical environments.

Comment 3: Eliminating the mesh and net size requirements would potentially increase the incentive for vessels to use larger equipment, which could increase the likelihood for overfishing. Rockfish are especially vulnerable to overfishing.

Response: Eliminating regulations that restrict the configuration and use of the nets would not affect the size of the gear used. Requirements affecting rope size will still be in place. Additionally, trawl nets are often limited by the size of the vessel and the ability of the vessel to pull the net. None of the revisions implemented through this final rule will change any of the vessel size restrictions for limited entry permits in the groundfish fishery.

In regard to overfishing, NMFS agrees that rockfish can be susceptible to overfishing because many species do not begin to reproduce until they are 5-20 years old, and very few of their young survive to adulthood. In addition, many species can live more than 100 years (e.g, yelloweye rockfish). However, NMFS and the Council are obligated under National Standard 1 to ensure that conservation and management measures, including those implemented through this final rule, prevent overfishing while also providing an opportunity for industry to harvest catch. NMFS and the Council have worked diligently over the past 15 years to conservatively manage species in order to rebuild seven previously overfished rockfish stocks. There are only two stocks (i.e., yelloweye rockfish and cowcod) that remain in rebuilding plans, and both are projected to rebuild ahead of schedule. The Trawl Rationalization Program has proven to be an effective management system for groundfish fisheries because it increases individual vessel accountability and ensures full catch accounting for all stocks. NMFS and the Council will continue to use the management tools available through that program to protect rockfish stocks from overfishing while also providing economic opportunities for West Coast communities.

Comment 4: Eliminating the mesh size requirements will result in increased unwanted bycatch, discards, and the increased mortality of small or young fish. Allowing this will reverse the Trawl Rationalization Program's longstanding success.

Response: The Trawl Rationalization Program has been successful in addressing the NMFS and Council's responsibilities under the Magnuson-Stevens Fishery Conservation Act (MSA) and the National Standards, in particular National Standard 1 guideline responsibilities for preventing overfishing, and National Standard 8 responsibilities to reduce bycatch to the extent practicable. Consistent with requirements under MSA, NMFS will continue to support development of actions that continue this success. As discussed in additional detail in the proposed rule, the continued success of the program relies on the use of an individual quota management system, which provides a disincentive for vessels to target small fish or reduce the mesh size of the net so as to catch more small fish. These undersized fish are not marketable and harvesters would have to use their quota pounds to cover the catch. One hundred percent at-sea monitoring, either with human observers or electronic monitoring, is required by all groundfish trawl vessels and ensures against vessels discarding unwanted or unmarketable catch without first recording the information. Additionally, reducing mesh size increases drag on the net which can reduce the efficiency of the fishing practices and also serves as a disincentive.

The purpose of eliminating the mesh size restrictions is not to incentivize the catch of small fish. It is intended to allow vessel operators the ability to address concerns about gilled fish (fish stuck in the net) and to use different mesh sizes to attach excluders and chafing gear, or heard smaller fish through the net and out the codend. This will ultimately have a limited positive impact for vessel operators. NMFS and the Council will make every effort to continue the successful management of the Trawl Rationalization Program.

Comment 5: Allowing vessels to use multiple types of groundfish trawl gear on the same trip will threaten the quality of stock assessments.

Response: There is a potential to impact stock assessments by allowing vessels to use multiple types of groundfish trawl gear to be fished on the same trip, and allowing vessels to fish in multiple IFQ management areas on the same trip and haul. However, NMFS is implementing mitigation measures, such as sorting and haul tabulation requirements, to ensure that the impacts to stock assessments will be low. The Council and its advisory bodies, including the Groundfish Management Team, the Groundfish Advisory Subpanel, and the Scientific and Statistical Committee (SSC), had extensive discussion on the potential issues that could arise from revising these regulations. The SSC spoke specifically to the risk that co-mingling of total catch could result in greater uncertainty in data used in stock assessments because gear-specific and area-specific catch, as well as effort per trip would be unknown, and species-specific selectivity varies among gear types. However, the SSC reported that the sorting requirements (catch must be separate by gear type) and the haul tabulation requirements (number of hauls by area must be recorded) could alleviate the potential impacts on data for stock assessments. Additionally, recording the number of hauls should allow for an accurate assessment of catch location.

Comment 6: The proposed rule appears to state that the purpose of removing the prohibition on the use of chafing gear is to extend the life of nets and ultimately reduce operational costs. This purpose is distinct from the purpose stated in the summary of the proposed rule, namely increasing flexibility while still limiting the catch of target and non-target species.

Response: The intent of the entire package of proposed measures is to increase flexibility while still limiting the catch of target and non-target species. As stated in the proposed rule, removing the restrictions on chafing gear will increase flexibility in how vessel operators attach their chafing gear to both protect the net and increase fishing efficiency. When implemented in the mid-1990s, the original restrictions on chafing gear were introduced to ensure that chafing gear was not used to effectively reduce the mesh size of the net. When discussing the elimination of the restrictions on net configurations, the Council considered the flexibility vessel operators would have through elimination of the minimum mesh size requirements, and how that flexibility would be limited if restrictions on codends and chafing gear were not also revised. In developing these measures on net configuration, vessel operators sought the flexibility to configure their nets strategically with different mesh sizes and chafing gear panels to optimize fishing operations by reducing operational costs (i.e., reduction in net replacement costs) and increasing fishing efficiency (i.e., herding of smaller fish). As described in the proposed rule and elsewhere in this preamble, the provisions of the Trawl Rationalization Program will continue to limit catch of target and non-target species.

Comment 7: A full environmental impact statement (EIS) is necessary to consider alternative approaches and designs that could serve the needs of NMFS while protecting marine life.

Response: NMFS originally published a notice of intent (NOI) to prepare an EIS in the Federal Register on March 3, 2016 (81 FR 11189), in accordance with the National Environmental Policy Act (NEPA) to analyze the impacts on the human environment resulting from changes to gear requirements for groundfish bottom trawl and midwater trawl gear in the Trawl Rationalization Program. NMFS accepted public comments on the NOI from March 3, 2016, to April 4, 2016.

Upon completion of the analysis for the action, NMFS determined that the impacts associated with implementing the action would not be significant and, therefore, there would be no need to complete an EIS. Instead, NMFS completed an EA for the proposed action, in compliance with NEPA. NMFS withdrew the NOI to prepare an EIS on June 8, 2018 (83 FR 22640).

VI. Changes From the Proposed Rule

The proposed rule for this action contained all the measures that the Pacific Fishery Management Council recommended, including a measure that would eliminate the requirement to use selective flatfish trawl gear north of 40°10′ N lat. and shoreward of the trawl RCA, and replace it with a small footrope trawl gear requirement. The proposed rule also highlighted NMFS' concerns that the removal of the requirement to use selective flatfish trawl gear shoreward of the trawl RCA between 40°10′ N lat. and 42° N lat. may be inconsistent with the terms and conditions of the 2017 Salmon Biological Opinion.

After consideration of public comment we preliminarily determined that, in order to maintain consistency with the 2017 Salmon Biological Opinion, it was only appropriate to remove the selective flatfish trawl requirement north of 42° N lat. This final rule would implement a revised version of the regulation put forward in the proposed rule, and would maintain the selective flatfish trawl requirement between 40°10′ N lat. and 42° N lat. Vessels fishing in the area between 40°10′ N lat. and 42° N lat. would be required to use selective flatfish trawl gear in a two- or four-seam net. North of 42° N lat., vessels would be allowed to fish with any type of small footrope trawl gear, including selective flatfish trawl gear.

VII. Classification

Pursuant to section 304(b)(1)(A) of the Magnuson-Stevens Act, the NMFS Assistant Administrator has determined that this action is consistent with the Pacific Coast Groundfish FMP, other provisions of the Magnuson-Stevens Act, and other applicable law.

The Office of Management and Budget has determined that this final rule is not significant for purposes of Executive Order 12866.

This final rule does not contain policies with Federalism or “takings” implications as those terms are defined in E.O. 13132 and E.O. 12630, respectively.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This action contains a change to an information collection requirement, which has been approved by the Office of Management and Budget (OMB) under OMB Control Number 0648-0573: Expanded Vessel Monitoring System Requirement for the Pacific Groundfish Fishery. The regulatory change, which was described in section IV of this final rule, would allow vessel operators who fish in the Shorebased IFQ Program to make a new declaration from sea when a new gear fished on a trip. This revision removes the requirement that vessels return to port to make a new declaration. The numbers of declaration reports the vessel operator is required to submit to NMFS would not change under this request. Therefore, no small entity would be subject to additional reporting requirements.

Pursuant to Executive Order 13175, this final rule was developed after meaningful collaboration with tribal officials from the area covered by the FMP. Consistent with the Magnuson-Stevens Act at 16 U.S.C. 1852(b)(5), one of the voting members of the Council is a representative of an Indian tribe with federally recognized fishing rights from the area of the Council's jurisdiction.

NMFS finds good cause to waive the 30-day delay in effectiveness pursuant to 5 U.S.C. 553(d)(3), so that this final rule may become effective January 1, 2019. Each of these revisions to groundfish regulations in this rule would remove restrictions that are no longer necessary due to implementation of the Trawl Rationalization Program, create more efficient and safe harvesting practices, and allow vessel operators to better attain species that are currently under attained without causing any additional impacts on the fishery. NMFS was unable to finalize these regulations sooner because of the need to include data in the analysis for this action from the 2018 trawl gear exempted fishing permit which was not available until May 2018.

Delaying the implementation of these revisions would reduce the benefits that they would provide to the industry and could cause confusion for vessel operators. For example, trawl vessels average between 10 and 20 days spent annually traveling back and forth to port to change gear types. Reducing restrictions on how they operate their vessels, including carrying multiple types of trawl gear onboard, vessel operators may be able to substantially reduce or eliminate the number of days spent traveling back and forth to port to change gears, resulting in financial savings and increased safety. Delays in implementing these revisions would reduce those financial savings and require vessels to continue more dangerous fishing practices. The revisions to regulations described in the preamble of this document affect commercial fisheries in Washington, Oregon and California. These revisions have been requested by members of industry, and were recommended to NMFS by the Council. No aspect of this action is controversial.

List of Subjects in 50 CFR Part 660

Fisheries, Fishing, and Indian Fisheries.

Dated: November 28, 2018.
Samuel D. Rauch III,
Deputy Assistant Administrator for Regulatory Programs, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. In § 660.11, amend the definition of “Fishing gear” by revising paragraphs (7) and (11)(iii)(B) to read as follows:

§ 660.11 General definitions.

* * * * *

Fishing gear * * *

* * * * *

(7) Mesh size means the opening between opposing knots, or opposing corners for knotless webbing. Minimum mesh size means the smallest distance allowed between the inside of one knot or corner to the inside of the opposing knot or corner, regardless of twine size.

* * * * *

(11) * * *

(iii) * * *

(B) Chafing gear means webbing or other material that is attached to the trawl net to protect the net from wear and abrasions either when fishing or hauling on deck.

* * * * *

3. In § 660.13, revise paragraph (d) to read as follows:

§ 660.13 Recordkeeping and reporting.

* * * * *

(d) Declaration reporting requirements—When the operator of a vessel registers a VMS unit with NMFS OLE, the vessel operator must provide NMFS with a declaration report as specified at paragraph (d)(4)(iv) of this section. The operator of any vessel that has already registered a VMS unit with NMFS OLE but has not yet made a declaration, as specified at paragraph (d)(4)(iv) of this section, must provide NMFS with a declaration report upon request from NMFS OLE.

(1) Declaration reports for vessels registered to limited entry permits. The operator of any vessel registered to a limited entry permit must provide NMFS OLE with a declaration report, as specified at paragraph (d)(4)(iv) of this section, before the vessel leaves port on a trip in which the vessel is used to fish in U.S. ocean waters between 0 and 200 nm offshore of Washington, Oregon, or California.

(i) Limited entry trawl vessels fishing in the Shorebased IFQ Program must provide NMFS OLE with a new declaration report each time a different groundfish trawl gear (bottom or midwater only) is fished. The declaration may be made from sea and must be made to NMFS before a different type (bottom or midwater only) of groundfish trawl gear is fished.

(ii) [Reserved]

(2) Declaration reports for all vessels using non-groundfish trawl gear. The operator of any vessel that is not registered to a limited entry permit and which uses non-groundfish trawl gear to fish in the EEZ (3-200 nm offshore), must provide NMFS OLE with a declaration report, as specified at paragraph (d)(4)(iv) of this section, before the vessel leaves port to fish in the EEZ.

(3) Declaration reports for open access vessels using non trawl gear (all types of open access gear other than non-groundfish trawl gear). The operator of any vessel that is not registered to a limited entry permit, must provide NMFS with a declaration report, as specified at paragraph (d)(4)(iv) of this section, before the vessel leaves port on a trip in which the vessel is used to take and retain or possess groundfish in the EEZ or land groundfish taken in the EEZ.

(4) Declaration reports. (i) The operator of a vessel specified in paragraphs (d)(1), (d)(2), and (d)(3) of this section must provide a declaration report to NMFS OLE prior to leaving port on the first trip in which the vessel meets the requirement specified at § 660.14(b) to have a VMS.

(ii) A declaration report will be valid until another declaration report revising the existing gear or fishery declaration is received by NMFS OLE. The vessel operator must send a new declaration report when:

(A) A gear type that is different from the gear type most recently declared for the vessel will be used, or

(B) A vessel will fish in a fishery other than the fishery most recently declared.

(iii) During the period of time that a vessel has a valid declaration report on file with NMFS OLE, it cannot fish with a gear other than a gear type declared by the vessel or fish in a fishery other than the fishery most recently declared.

(iv) Declaration reports will include: The vessel name and/or identification number, the gear type, and the fishery (as defined in paragraph (d)(4)(iv)(A) of this section).

(A) One of the following gear types or sectors must be declared:

(1) Limited entry fixed gear, not including Shorebased IFQ Program,

(2) Limited entry groundfish non-trawl, Shorebased IFQ Program,

(3) Limited entry midwater trawl, non-whiting Shorebased IFQ Program,

(4) Limited entry midwater trawl, Pacific whiting Shorebased IFQ Program,

(5) Limited entry midwater trawl, Pacific whiting catcher/processor sector,

(6) Limited entry midwater trawl, Pacific whiting mothership sector (catcher vessel or mothership),

(7) Limited entry bottom trawl, Shorebased IFQ Program, not including demersal trawl,

(8) Limited entry demersal trawl, Shorebased IFQ Program,

(B) [Reserved]

(v) Upon receipt of a declaration report, NMFS will provide a confirmation code or receipt to confirm that a valid declaration report was received for the vessel. Vessel owners or operators are responsible for retaining the confirmation code or receipt to verify that a valid declaration report was filed.

4. In § 660.25, revise paragraph (b)(4)(vii)(C) to read as follows:

§ 660.25 Permits.

* * * * *

(b) * * *

(4) * * *

(vii) * * *

(C) Limited entry MS permits and limited entry permits with an MS/CV or a C/P endorsement. Limited entry MS permits and limited entry permits with an MS/CV or a C/P endorsement may be registered to another vessel up to two times during the calendar year as long as the second change in vessel registration is back to the original vessel. The original vessel is either the vessel registered to the permit as of January 1, or if no vessel is registered to the permit as of January 1, the original vessel is the first vessel to which the permit is registered after January 1. After the original vessel has been established, the first change in vessel registration would be to another vessel, but any second change in vessel registration must be back to the original vessel. For an MS/CV-endorsed permit on the second change in vessel registration back to the original vessel, that vessel must be used to fish exclusively in the MS Coop Program described § 660.150 for the remainder of the calendar year, and declare in to the limited entry mid water trawl, Pacific whiting mothership sector as specified at § 660.13(d)(4)(iv).

* * * * *

5. In § 660.60, revise paragraphs (h)(7) introductory text, (h)(7)(i) introductory text, (h)(7)(ii)(A), (h)(7)(ii)(B)(1) introductory text, and (h)(7)(ii)(B)(2) to read as follows:

§ 660.60 Specifications and management measures.

* * * * *

(h) * * *

(7) Crossover provisions. Crossover provisions apply to three activities: Fishing on different sides of a management line, fishing in both the limited entry and open access fisheries, or fishing in both the Shorebased IFQ Program and the limited entry fixed gear fishery. Fishery-specific crossover provisions can be found in subparts D through F of this part.

(i) Fishing in management areas with different trip limits. Trip limits for a species or a species group may differ in different management areas along the coast. The following crossover provisions apply to vessels fishing in different geographical areas that have different cumulative or “per trip” trip limits for the same species or species group, with the following exceptions. Such crossover provisions do not apply to: IFQ species (defined at § 660.140(c), subpart D) for vessels that are declared into the Shorebased IFQ Program (see § 660.13(d)(4)(iv)(A), for valid Shorebased IFQ Program declarations); species that are subject only to daily trip limits; or to trip limits for black rockfish off Washington, as described at §§ 660.230(e) and 660.330(e).

* * * * *

(ii) * * *

(A) Fishing in limited entry and open access fisheries with different trip limits. Open access trip limits apply to any fishing conducted with open access gear, even if the vessel has a valid limited entry permit with an endorsement for another type of gear. Except such provisions do not apply to IFQ species (defined at § 660.140(c), subpart D) for vessels that are declared into the Shorebased IFQ Program (see § 660.13(d)(4)(iv)(A) for valid Shorebased IFQ Program declarations). A vessel that fishes in both the open access and limited entry fisheries is not entitled to two separate trip limits for the same species. If a vessel has a limited entry permit registered to it at any time during the trip limit period and uses open access gear, but the open access limit is smaller than the limited entry limit, the open access limit may not be exceeded and counts toward the limited entry limit. If a vessel has a limited entry permit registered to it at any time during the trip limit period and uses open access gear, but the open access limit is larger than the limited entry limit, the smaller limited entry limit applies, even if taken entirely with open access gear.

(B) * * *

(1) Vessel registered to a limited entry trawl permit. To fish with open access gear, defined at § 660.11, a vessel registered to a limited entry trawl permit must make the appropriate fishery declaration, as specified at § 660.13(d)(4)(iv)(A). In addition, a vessel registered to a limited entry trawl permit must remove the permit from their vessel, as specified at § 660.25(b)(4)(vi), unless the vessel will be fishing in the open access fishery under one of the following declarations specified at § 660.13(d):

* * * * *

(2) Vessel registered to a limited entry fixed gear permit(s). To fish with open access gear, defined at § 660.11, subpart C, a vessel registered to a limit entry fixed gear permit must make the appropriate open access declaration, as specified at § 660.13(d)(4)(iv)(A). Vessels registered to a sablefish-endorsed permit(s) fishing in the sablefish primary season (described at § 660.231, subpart E) may only fish with the gear(s) endorsed on their sablefish-endorsed permit(s) against those limits.

* * * * *

6. In § 660.112, revise paragraphs (b)(1)(vii), (b)(1)(xi), (b)(1)(xii)(A), (c)(4), and (e)(4) to read as follows:

§ 660.112 Trawl fishery—prohibitions.

* * * * *

(b) * * *

(1) * * *

(vii) For vessels fishing with multiple trawl gear types on a single trip, fail to keep catch from different trawl gears separate and land the catch separately by gear type.

* * * * *

(xi) Mix catch from different hauls before all sampling and monitoring requirements for the hauls have been met.

(xii) * * *

(A) A vessel that is 75-ft (23-m) or less LOA that harvests Pacific whiting and, in addition to heading and gutting, cuts the tail off and freezes the whiting, is not considered to be a C/P vessel nor is it considered to be processing fish, and

* * * * *

(c) * * *

(4) Catch, take, or harvest fish in the MS Coop Program with a vessel that does not have a valid VMS declaration for limited entry midwater trawl, Pacific whiting mothership sector, as specified at § 660.13(d)(4)(iv)(A), subpart C.

* * * * *

(e) * * *

(4) Fish in the C/P Coop Program with a vessel that does not have a valid VMS declaration for limited entry midwater trawl, Pacific whiting catcher/processor sector, as specified at § 660.13(d)(4)(iv)(A).

* * * * *

7. In § 660.113, revise paragraph (b)(3) to read as follows:

§ 660.113 Trawl fishery-recordkeeping and reporting.

* * * * *

(b) * * *

(3) Gear switching declaration. Any person with a limited entry trawl permit participating in the Shorebased IFQ Program using groundfish non-trawl gear (i.e., gear switching) must submit a valid gear declaration reporting such participation as specified in § 660.13(d)(4)(iv)(A).

* * * * *

8. In § 660.130:

a. Remove paragraphs (b)(1), (b)(2), and (b)(3)(iii);

b. Redesignate paragraphs (b)(3) and (b)(4) as (b)(1) and (b)(2), respectively;

c. Revise the newly redesignated paragraphs (b)(1)(ii)(A) and (b)(2);

d. Revise paragraphs (c)(1), (c)(2), (c)(3)(ii), (c)(4)(i)(A), (c)(4)(i)(B), (c)(4)(i)(D) and (E), (c)(4)(ii)(A) and (B), (d)(2)(ii), (e) introductory text, (e)(4)(ii), and (e)(4)(iv).

The revisions read as follows:

§ 660.130 Trawl fishery—management measures.

* * * * *

(b) * * *

(1) * * *

(ii) * * *

(A) Selective flatfish trawl gear. Selective flatfish trawl gear is a type of small footrope trawl gear. The selective flatfish trawl net must be either a two-seamed or four-seamed net with no more than four riblines, excluding the codend. The breastline may not be longer than 3 ft (0.92 m) in length. There may be no floats along the center third of the headrope or attached to the top panel except on the riblines. The footrope must be less than 105 ft (32.26 m) in length. The headrope must be not less than 30 percent longer than the footrope. The headrope shall be measured along the length of the headrope from the outside edge to the opposite outside edge. An explanatory diagram of a selective flatfish trawl net is provided as Figure 1 of part 660, subpart D.

* * * * *

(2) Midwater (pelagic or off-bottom) trawl gear. Midwater trawl gear must have unprotected footropes at the trawl mouth, and must not have rollers, bobbins, tires, wheels, rubber discs, or any similar device anywhere on any part of the net. The footrope of midwater gear may not be enlarged by encircling it with chains or by any other means. Ropes or lines running parallel to the footrope of midwater trawl gear must be bare and may not be suspended with chains or any other materials. Sweep lines, including the bottom leg of the bridle, must be bare. For at least 20 ft (6.15 m) immediately behind the footrope or headrope, bare ropes or mesh of 16-inch (40.6-cm) minimum mesh size must completely encircle the net.

(c) * * *

(1) Fishing with large footrope trawl gear. It is unlawful for any vessel using large footrope gear to fish for groundfish shoreward of the RCAs defined at paragraph (e)(4) of this section and at §§ 660.70 through 660.74, subpart C. The use of large footrope gear is allowed seaward of the RCAs coastwide.

(2) Fishing with small footrope trawl gear. The use of small footrope bottom trawl gear is allowed in all areas where bottom trawling is allowed with the following requirements:

(i) Fishing with selective flatfish trawl gear. The use of selective flatfish trawl gear, a type of small footrope trawl gear, is allowed in all areas where bottom trawling is allowed and is required shoreward of the trawl RCA between 42° North latitude and 40°10′ North latitude.

(ii) The use of small footrope trawl, other than selective flatfish trawl gear, is prohibited between 42° North latitude and 40°10′ North latitude.

(iii) The use small footrope trawl, other than of selective flatfish trawl gear, is required inside the Klamath River Salmon Conservation Zone (defined at § 660.131(c)(1)) and the Columbia River Salmon Conservation Zone (defined at § 660.131(c)(2)).

(3) * * *

(ii) South of 40°10′ N lat., midwater groundfish trawl gear is prohibited within and shoreward of the RCA boundaries (see § 660.130(e)(4)(i)) and allowed seaward of the RCA boundaries.

(4) * * *

(i) * * *

(A) A vessel may not have both groundfish trawl gear and non-groundfish trawl gear onboard simultaneously. A vessel may not have both selective flatfish trawl gear and any other type of small footrope trawl gear onboard simultaneously.

(B) If a vessel fishes exclusively with large or small footrope trawl gear during an entire cumulative limit period, the vessel is subject to the cumulative limits for that gear.

* * * * *

(D) If more than one type of groundfish bottom trawl gear (selective flatfish, large footrope, or small footrope) is on board, either simultaneously or successively, at any time during a cumulative limit period, then the most restrictive cumulative limit associated with the groundfish bottom trawl gear on board during that cumulative limit period applies for the entire cumulative limit period.

(E) If a vessel fishes both north and south of 40°10′ N lat. with any type of small or large footrope gear onboard the vessel at any time during the cumulative limit period, the most restrictive trip limit associated with the gear on board applies for that trip and will count toward the cumulative limit for that gear (See crossover provisions at § 660.60(h)(7)).

(ii) * * *

(A) A vessel may not have both groundfish trawl gear and non-groundfish trawl gear onboard simultaneously.

(B) If a vessel fishes both north and south of 40°10′ N lat. with any type of small or large footrope gear onboard the vessel at any time during the cumulative limit period, the most restrictive cumulative limit associated with the gear on board would apply for that trip and all catch would be counted toward that cumulative limit (See crossover provisions at § 660.60(h)(7)).

(d) * * *

(2) * * *

(ii) Catcher vessels. All catch must be sorted by the gear types declared in accordance with § 660.13(d), and to the species groups specified in paragraph (d)(1) of this section for vessels with limited entry permits, except those vessels retaining all catch during a Shorebased IFQ trip (i.e., maximized retention trips). The catch must not be discarded from the vessel and the vessel must not mix catch from hauls until the observer has sampled the catch. Catch separated by trawl gear type must be landed separately by trawl gear type. Prohibited species must be sorted according to the following species groups: Dungeness crab, Pacific halibut, Chinook salmon, other salmon. Non-groundfish species must be sorted as required by the state of landing.

* * * * *

(e) Groundfish conservation areas (GCAs) applicable to trawl vessels. A GCA, a type of closed area, is a geographic area defined by coordinates expressed in degrees of latitude and longitude. The latitude and longitude coordinates of the GCA boundaries are specified at §§ 660.70 through 660.74. If a vessel is fishing within a GCA listed in this paragraph (e) using trawl gear authorized for use within a GCA, all prohibited gear: must be stowed below deck; or, if the gear cannot readily be moved, must be stowed in a secured and covered manner detached from all towing lines so that it is rendered unusable for fishing; or, if remaining on deck uncovered, must be stowed disconnected from the trawl doors with the trawl doors hung from their stanchions. The following GCAs apply to vessels participating in the limited entry trawl fishery. Additional closed areas that specifically apply to vessels using midwater groundfish trawl gear are described at § 660.131(c).

* * * * *

(4) * * *

(ii) Trawl vessels may transit through an applicable GCA, with or without groundfish on board, provided all prohibited groundfish trawl gear: is stowed below deck; or, if the gear cannot readily be moved, is stowed in a secured and covered manner detached from all towing lines so that it is rendered unusable for fishing; or, if remaining on deck uncovered, is stowed disconnected from the trawl doors with the trawl doors hung from their stanchions. These restrictions do not apply to vessels allowed to fish within the trawl RCA under paragraph (e)(4)(i) of this section.

* * * * *

(iv) If a vessel fishes in the trawl RCA using midwater trawl gear, it may also fish outside the trawl RCA with groundfish bottom trawl gear on the same trip. Nothing in these Federal regulations supersedes any state regulations that may prohibit trawling shoreward of the fishery management area (3-200 nm).

* * * * *

9. In § 660.140, remove paragraphs (c)(1) and (h)(2)(viii)(I), and redesignate paragraph (c)(2) as (c)(1), revise newly redesignated paragraph (c)(1), and reserve paragraph (c)(2) to read as follows:

§ 660.140 Shorebased IFQ Program.

* * * * *

(c) * * *

(1) IFQ management areas. IFQ management areas are as follows:

(i) Between the U.S./Canada border and 40°10′ N lat.,

(ii) Between 40°10′ N lat. and 36° N lat.,

(iii) Between 36° N lat. and 34°27′ N lat., and

(iv) Between 34°27′ N lat. and the U.S./Mexico border.

(2) [Reserved]

* * * * *

10. Table 1 (North) and Table 1 (South) to part 660, subpart D are revised to read as follows:

BILLING CODE 3510-22-P

11. In § 660.333, revise paragraphs (b)(1), and (d)(1) to read as follows:

§ 660.333 Open access non-groundfish trawl fishery—management measures

* * * * *

(b) * * *

(1) It is declared “non-groundfish trawl gear for ridgeback prawn” under § 660.13(d)(4)(iv)(A)(10), regardless of whether it is registered to a Federal limited entry trawl-endorsed permit; and

* * * * *

(c) * * *

(1) It is declared “non-groundfish trawl gear for California halibut” under § 660.13(d)(4)(iv)(A)(11), regardless of whether it is registered to a Federal limited entry trawl-endorsed permit;

* * * * *

(d) * * *

(1) It is declared “non-groundfish trawl gear for sea cucumber” under § 660.13(d)(4)(iv)(A)(12), regardless of whether it is registered to a Federal limited entry trawl-endorsed permit;

* * * * *

[FR Doc. 2018-26194 Filed 11-30-18; 8:45 am]

BILLING CODE 3510-22-C